SOCIAL SECURITY ADMINISTRATION

20 CFR Part 422

RIN 0960-AG25

Social Security Number (SSN) Cards; Limiting Replacement Cards

AGENCY: Social Security Administration (SSA).

ACTION: Interim final rule with request for comments.

SUMMARY: These regulations reflect and implement amendments to the Social Security Act (the Act) made by part of the Intelligence Reform and Terrorism Prevention Act of 2004 (IRTPA). Section 7213(a)(1)(A) of the IRTPA requires that we limit individuals to three replacement SSN cards per year and ten replacement SSN cards during a lifetime. The provision permits us to allow for reasonable exceptions from these limits on a case-by-case basis in compelling circumstances. This provision also helps us to further strengthen the security and integrity of the SSN issuance process. The limits on replacement SSN cards will be established prospectively, effective no later than December 17, 2005, regardless of the date we issue final rules in the Federal Register.

DATES: These final rules with request for comment are effective December 16, 2005. To be sure that your comments are considered, we must receive them no later than February 14, 2006.

ADDRESSES: You may give us your comments by: using our Internet facility (i.e., Social Security Online) at http://policy.ssa.gov/erm/rules.nsf/Rules+Open+To+Comment or the Federal eRulemaking Portal at http://www.regulations.gov; e-mail to regulations@ssa.gov; telefax to (410) 966-2830; or letter to the Commissioner of Social Security, P.O. Box 17703, Baltimore, MD 21235-7703. You may also deliver them to the Office of Regulations, Social Security Administration, 100 Altmeyer Building, 6401 Security Boulevard, Baltimore, MD 21235-6401, between 8 a.m. and 4:30 p.m. on regular business days. Comments are posted on our Internet site, or you may inspect them physically on regular business days by making arrangements with the contact person shown in this preamble.

Electronic Version. The electronic file of this document is available on the date of publication in the Federal Register at http://www.gpoaccess.gov/fr/index.html.

FOR FURTHER INFORMATION CONTACT: Robert J. Augustine, Social Insurance Specialist, Office of Regulations, 100 Altmeyer Building, Social Security Administration, 6401 Security Boulevard, Baltimore, MD 21235-6401, (410) 965-0020, or TTY (410) 966-5609. For information on eligibility or filing for benefits, call our national toll-free numbers, 1-800-772-1213 or TTY 1-800-325-0778, or visit our Internet Web site, Social Security Online, at http://www.socialsecurity.gov.

SUPPLEMENTARY INFORMATION:

Background

Our current regulations at 20 CFR 422.103(e), Replacement of social security number card, state that:

• In the case of lost or damaged SSN card, a duplicate card bearing the same name and number may be issued, and

• In the case of a need to change the name on the card, a corrected card bearing the same number and the new name may be issued.

Furthermore, our regulations at 20 CFR 422.110(a) currently state that an individual who wishes to change his or her name or other personal identifying information must prove his or her identity and may be required to provide other evidence. If a completed request and all applicable evidence are received for a change in name, a new SSN card with the new name and bearing the same number previously assigned will be issued to the person making the request.

Our current regulations do not put any numerical limits on the number of replacement SSN cards an individual may obtain. Prior to the new statutory replacement SSN card limit, the only limitation on the number of cards has been a protocol in our electronic records that prevents the issuance of a replacement SSN card within seven days of a previous issuance.

Section 7213(a)(1)(A) of Public Law 108-458 (the Intelligence Reform and Terrorism Prevention Act of 2004), enacted on December 17, 2004, requires that we restrict the issuance of multiple replacement SSN cards to any individual to three replacement SSN cards per year and ten replacement cards for the life of the individual. The statute mandates enforcement of the limits not later than one year after December 17, 2004. In applying these limits, we will not consider replacement social security number cards issued prior to December 17, 2005. The provision also states that we may allow for reasonable exceptions from the limits on a case-by-case basis in compelling circumstances. In order to comply with this provision of Public Law 108-458, we are revising §§ 422.103 and 422.110 of our regulations.

We are also making nonsubstantive changes to § 422.107 to streamline the wording in this section.

Explanation of Changes

Section 422.103 Social Security Numbers

We are revising § 422.103(e) of our regulations by restricting the number of replacement cards an individual may obtain both during a year and over a lifetime. These limits are set at three replacement SSN cards in a year and ten per lifetime. However, as permitted by section 7213(a)(1)(A) of Public Law 108-458, we may allow for reasonable exceptions to these limits on a case-by-case basis in compelling circumstances. We are allowing exceptions for name changes (i.e., verified changes to first name and/or surname) and for changes in alien status that result in a necessary change to a restrictive legend on the SSN card, because we believe these situations satisfy the compelling circumstances test. We want to ensure the accuracy of our records by encouraging number holders to report name changes and changes in alien status. Consequently, every change in name or alien status, where the restrictive legend must change, presents compelling circumstances for not applying the replacement card limits. Since we investigate the validity of documents submitted when individuals change their name or alien status (see 20 CFR 422.107(c) and (e)), we believe these are reasonable exceptions to the limitations in light of our compelling need for accurate records. Therefore, we will not count toward the annual and lifetime limits those SSN replacement cards for name and restrictive legend changes. We will grant an exception to the limits on a case-by-case basis if the individual provides evidence of hardship, such as a referral letter from a governmental social services agency indicating that the SSN card must be shown in order to obtain benefits or services. Finally, in an effort to streamline our definition of a replacement SSN card, we are eliminating language regarding the sub-categories of duplicate and corrected SSN cards from the language heretofore incorporated in this regulation.

Section 422.107 Evidence Requirements

To conform to the changes we are proposing in § 422.103 regarding streamlining the definition of a replacement SSN card, we are replacing the words “duplicate” or “corrected” with “replacement” in paragraphs (a) through (e) and (g) of this section.

Section 422.110 Individual's Request for Change in Record

We are revising § 422.110 to add cross-references to new paragraph (e)(2) in § 422.103, which describes the new limits on replacement SSN cards and the exceptions to those limits. We are making a minor revision to paragraph (b) to reflect that the Immigration and Naturalization Service has been abolished and its functions and units incorporated into the Department of Homeland Security. We have also made other clarifying language changes.

We anticipate that the three-card per year limit will impact fewer than 10,000 individuals in any given year. For example, of the nearly 12.4 million replacement SSN cards we issued in 2004, the number of individuals who requested more than three replacement cards was 3,818. However, we do not have any data available for those individuals who requested replacement cards exceeding the ten-card per lifetime limit. These changes will be effective prospectively, and we will not consider replacement SSN cards that were issued prior to the rule change when applying either limit.

Clarity of These Regulations

Executive Order 12866, as amended by Executive Order 13258, requires each agency to write all rules in plain language. In addition to your substantive comments on these rules, we invite your comments on how to make these rules easier to understand. For example:

• Have we organized the material to suit your needs?

• Are the requirements in the rules clearly stated?

• Do the rules contain technical language or jargon that is unclear?

• Would a different format (grouping and order of sections, use of headings, paragraphing) make the rules easier to understand?

• Would more (but shorter) sections be better?

• Could we improve clarity by adding tables, lists or diagrams?

• What else could we do to make the rules easier to understand?

Regulatory Procedures

Pursuant to section 702(a)(5) of the Act, 42 U.S.C. 902(a)(5), as amended by section 102 of Public Law 103-296, SSA follows the Administrative Procedure Act (APA) rulemaking procedures specified in 5 U.S.C. 553 in the development of its regulations. The APA provides exceptions to its Notice of Proposed Rulemaking (NPRM) procedures when an agency finds there is good cause for dispensing with such procedures on the basis that they are impracticable, unnecessary, or contrary to the public interest.

In the case of these rules, we have determined that, under 5 U.S.C. 553(b)(B), good cause exists for dispensing with the notice and public comment procedures. Application of the notice and comment provisions is impracticable because section 7213(a)(1)(A) of Public Law 108-458 must be implemented no later than December 17, 2005 . In addition, section 7213(a)(1)(A) serves important anti-terrorism and fraud prevention goals, which would be frustrated by any implementation delays. Thus, the public interest will be best served by immediate implementation of section 7213(a)(1)(A), which will deter and prevent SSN misuse and fraud.

In addition, we find good cause for dispensing with the 30-day delay in the effective date of a substantive rule, provided for by 5 U.S.C. 553(d). As explained above, SSA is responding to the public need to deter and prevent SSN misuse and fraud under the requirements of the IRTPA. Therefore, we find that it is in the public interest to make these rules effective upon publication, with a request for comments so that the rules can be revised as necessary or appropriate after public review. We intend to publish final rules within 120 days of the close of the comment period.

Executive Order 12866, as Amended by Executive Order 13258

We have consulted with the Office of Management and Budget (OMB) and determined that these final rules meet the criteria for a significant regulatory action under Executive Order 12866, as amended by Executive Order 13258. Thus, the rules have been reviewed by OMB.

Regulatory Flexibility Act

We certify that these rules would not have a significant economic impact on a substantial number of small entities because they would affect only individuals. Thus, a regulatory flexibility analysis as provided in the Regulatory Flexibility Act, as amended, is not required.

Paperwork Reduction Act

These rules contain reporting requirements as shown in the following table. Where the public reporting burden is accounted for in Information Collection Requests for the various forms that the public uses to submit the information to SSA, a 1-hour placeholder burden is being assigned to the specific reporting requirement(s) contained in these rules; we are seeking clearance of these burdens because they were not considered during the clearance of the forms.

Section | Annual number of responses | Frequency of response | Average burden per response (hours) | Estimated annual burden (hours)
422.103(b), and 422.110(a) |  |  |  | 1
422.103(e)(2) | 4,000 | 1 | 1 | 4,000
Total |  |  |  | 4,001

An Information Collection Request has been submitted to the Office of Management and Budget (OMB) for clearance. We are soliciting comments on the burden estimate; the need for the information; its practical utility; ways to enhance its quality, utility, and clarity; and on ways to minimize the burden on respondents, including the use of automated collection techniques or other forms of information technology. Comments should be submitted and/or faxed to OMB at the following address/number: Office of Management and Budget, Attn: Desk Officer for SSA, Fax Number: 202-395-6974.

Social Security Administration, Attn: SSA Reports Clearance Officer, Rm. 1338 Annex Building, 6401 Security Boulevard, Baltimore, MD 21235-6401,Fax Number: 410-965-6400.

We will accept comments for 60 days after this notice is published, but comments would be most useful if we receive them within 30 days. To receive a copy of the OMB clearance package, you may call the SSA Reports Clearance Officer on 410-965-0454.

(Catalog of Federal Domestic Assistance Programs Nos. 96.001, Social Security—Disability Insurance; 96.002 Social Security—Retirement Insurance; 96.004, Social Security—Survivors Insurance; 96.006, Supplemental Security Income)

List of Subjects in 20 CFR Part 422

Administrative practice and procedure, Organization and functions (Government agencies) Reporting and recordkeeping requirements, Social Security.

Dated: November 8, 2005.
Jo Anne B. Barnhart,
Commissioner of Social Security.

For the reasons set out in the preamble, we are amending part 422, subpart B, chapter III of title 20, Code of Federal Regulations as follows:

PART 422—ORGANIZATION AND PROCEDURES

Subpart B—[Amended]

1. The authority citation for subpart B of part 422 is revised to read as follows:

Authority: Secs. 205, 232, 702(a)(5), 1131, 1143 of the Social Security Act (42 U.S.C. 405, 432, 902(a)(5), 1320b-1, and 1320b-13), and sec. 7213(a)(1)(A) of Pub. L. 108-458.

2. Section 422.103 is amended by revising paragraph (e) to read as follows:

§ 422.103 Social security numbers.

* * * * *

(e) Replacement of social security number card. (1) When we may issue you a replacement card. We may issue you a replacement social security number card, subject to the limitations in paragraph (e)(2) of this section. In all cases, you must complete a Form SS-5 to receive a replacement social security number card. You may obtain a Form SS-5 from any Social Security office or from one of the sources noted in paragraph (b) of this section. For evidence requirements, see § 422.107.

(2) Limits on the number of replacement cards. There are limits on the number of replacement social security number cards we will issue to you. You may receive no more than three replacement social security number cards in a year and ten replacement social security number cards per lifetime. We may allow for reasonable exceptions to these limits on a case-by-case basis in compelling circumstances. We also will consider name changes (i.e., verified changes to the first name and/or surname) and changes in alien status which result in a necessary change to a restrictive legend on the SSN card (see paragraph (e)(3) of this section) to be compelling circumstances, and will not include either of these changes when determining the yearly or lifetime limits. We may grant an exception if you provide evidence establishing that you would experience significant hardship if the card were not issued. An example of significant hardship includes, but is not limited to, providing SSA with a referral letter from a governmental social services agency indicating that the social security number card must be shown in order to obtain benefits or services.

(3) Restrictive legend change defined. Based on a person's immigration status, a restrictive legend may appear on the face of an SSN card to indicate that work is either not authorized or that work may be performed only with Department of Homeland Security (DHS) authorization. This restrictive legend appears on the card above the individual's name and SSN. Individuals without work authorization in the U.S. receive SSN cards showing the restrictive legend, “Not Valid for Employment;” and SSN cards for those individuals who have temporary work authorization in the U.S. show the restrictive legend, “Valid For Work Only With DHS Authorization.” U.S. citizens and individuals who are permanent residents receive SSN cards without a restrictive legend. For the purpose of determining a change in restrictive legend, the individual must have a change in immigration status or citizenship which results in a change to or the removal of a restrictive legend when compared to the prior SSN card data. An SSN card request based upon a change in immigration status or citizenship which does not affect the restrictive legend will count toward the yearly and lifetime limits, as in the case of Permanent Resident Aliens who attain U.S. citizenship.

§ 422.107 [Amended]

3. Section 422.107 is revised as follows:

a. In the second sentence of paragraph (a), the second sentence of paragraph (b), the first sentence of paragraph (c), the second sentence of paragraph (d) introductory text, and the first sentence of paragraph (e)(i), remove “duplicate or corrected” and add in its place “replacement.”

b. In the third and fourth sentences of paragraph (a), the first sentence of paragraph (d) introductory text, and the first sentence of paragraph (g), remove “,duplicate, or corrected” and add in its place “or replacement.”

4. Section 422.110 is revised to read as follows:

§ 422.110 Individual's request for change in record.

(a) Form SS-5. If you wish to change the name or other personal identifying information you previously submitted in connection with an application for a social security number card, you must complete and sign a Form SS-5 except as provided in paragraph (b) of this section. You must prove your identity, and you may be required to provide other evidence. (See § 422.107 for evidence requirements.) You may obtain a Form SS-5 from any local Social Security office or from one of the sources noted in § 422.103(b). You may submit a completed request for change in records to any Social Security office, or, if you are outside the U.S., to the Department of Veterans Affairs Regional Office, Manila, Philippines, or to any U.S. Foreign Service post or U.S. military post. If your request is for a change of name on the card, we may issue you a replacement card bearing the same number and the new name. We will grant an exception from the limitations specified in § 422.103(e)(2) for replacement social security number cards representing a change in name or, if you are an alien, a change to a restrictive legend shown on the card. (See § 422.103(e)(3) for the definition of a change to a restrictive legend.)

(b) Assisting in enumeration. We may enter into an agreement with officials of the Department of State and the Department of Homeland Security to assist us by collecting, as part of the immigration process, information to change the name or other personal identifying information you previously submitted in connection with an application or request for a social security number card. If your request is to change a name on the card or to correct the restrictive legend on the card to reflect a change in alien status, we may issue you a replacement card bearing the same number and the new name or legend. We will grant an exception from the limitations specified in § 422.103(e)(2) for replacement social security number cards representing a change of name or, if you are an alien, a change to a restrictive legend shown on the card. (See § 422.103(e)(3) for the definition of a change to a restrictive legend.)

[FR Doc. 05-23962 Filed 12-15-05; 8:45 am]

BILLING CODE 4191-02-P